SMALL BUSINESS ADMINISTRATION

[Declaration of Disaster #3492]

State of Mississippi; (Amendment #3)

In accordance with a notice received from the Department of Homeland Security—Federal Emergency Management Agency, effective June 6, 2003, the above numbered declaration is hereby amended to include Jefferson Davis County as a disaster area due to damages caused by severe storms, tornadoes and flooding beginning on April 6 and continuing through April 25, 2003.

All counties contiguous to the above named primary county have been previously declared.

All other information remains the same, i.e., the deadline for filing applications for physical damage is June 23, 2003, and for economic injury the deadline is January 26, 2004.

(Catalog of Federal Domestic Assistance Program Nos. 59002 and 59008).
Dated: June 10, 2003.
S. George Camp,
Acting Associate Administrator for Disaster Assistance.

[FR Doc. 03-15234 Filed 6-16-03; 8:45 am]

BILLING CODE 8025-01-P